DEPARTMENT OF VETERANS AFFAIRS

Geriatric and Gerontology Advisory Committee, Notice of Meeting

The Department of Veterans Affairs (VA) gives notice under the Federal Advisory Committee Act (5 U.S.C. ch. 10), that the Geriatric and Gerontology Advisory Committee will be held virtually Tuesday, September 17-Wednesday, September 18, 2024. The meeting sessions will begin and end as shown in the following table:

Date | Time
September 17, 2024 | 9:00 a.m.-4:00 p.m. Eastern Daylight Time (EDT)
September 18, 2024 | 9:00 a.m.-12:00 noon EDT

This meeting sessions are open to the public.

The purpose of the Committee is to provide advice to the Secretary of VA and the Under Secretary for Health on all matters pertaining to geriatrics and gerontology. The Committee assesses the capability of VA health care facilities and programs to meet the medical, psychological, and social needs of older Veterans, and evaluates VA programs designated as Geriatric Research, Education, and Clinical Centers.

During this meeting, the Committee will receive briefings on the activities of the Office of Geriatrics and Extended Care, updates on the provision of GEC long term services and supports to Veterans, and presentations from VHA Program Offices, administrators and investigators relevant to the care of older Veterans. The meeting will also feature updates on accomplishments of the VHA Geriatric Research, Education and Clinical Centers Programs, the 20 geriatric Centers of Excellence located throughout the U.S. The specific agenda will be available by request for registered attendees prior to the meeting.

Time will be allocated for receiving public comments on September 18, 2024, at 11:00 a.m. (Eastern Daylight Time). Individuals wishing to present public comments should contact Marianne Shaughnessy, Ph.D., AGPCNP-BC, GS-C, FAAN., Designated Federal Officer, Veterans Health Administration by email at Marianne.Shaughnessy@va.gov or at 202-407-6798 no later than close of business on September 6, 2024. Only those members of the public (first 6 public comment registrants) who have confirmed registrations to present public comment will be allowed to speak at this meeting. In the interest of time, each speaker will be held to 5-minute time limit. Individuals who are unable to attend but would like to have comment included in the meeting record may send them to Marianne.Shaughnessy@va.gov by close of business on September 6, 2024. All individuals wishing to present public comments must provide a written summary of the comment for inclusion in the meeting record that includes name and organization/association of persons they represent.

Any member of the public wishing to attend virtually or seeking additional information should email Marianne.Shaughnessy@va.gov or call 202-407-6798, no later than close of business on September 6, 2024, to provide their name, professional affiliation, email address and phone number. The WebEx link for September 17, 2024: https://veteransaffairs.webex.com/veteransaffairs/j.php?MTID=mb2cfe77035d60ecea3b7362847586a78, meeting number (access code): 2823 778 6846, meeting password: ZnpustA?283 or September 18, 2024: https://veteransaffairs.webex.com/veteransaffairs/j.php?MTID=m1e390eaafa645f70a4fd1e27617951d7, meeting number (access code): 2819 443 9243, meeting password: vxRvGr6u@46 or to join by phone either day: 1-404-397-1596.

Dated: August 26, 2024.
LaTonya L. Small,
Federal Advisory Committee Management Officer.

[FR Doc. 2024-19472 Filed 8-29-24; 8:45 am]

BILLING CODE 8320-01-P